DEPARTMENT OF DEFENSE

GENERAL SERVICES ADMINISTRATION

NATIONAL AERONAUTICS AND SPACE ADMINISTRATION

48 CFR Chapter 1

[Docket FAR 2009-0002, Sequence 6]

Federal Acquisition Regulation; Federal Acquisition Circular 2005-35; Small Entity Compliance Guide

AGENCY: Department of Defense (DoD), General Services Administration (GSA), and National Aeronautics and Space Administration (NASA).

ACTION: Small Entity Compliance Guide.

SUMMARY: This document is issued under the joint authority of the Secretary of Defense, the Administrator of General Services and the Administrator of the National Aeronautics and Space Administration. This Small Entity Compliance Guide has been prepared in accordance with Section 212 of the Small Business Regulatory Enforcement Fairness Act of 1996. It consists of a summary of the rule appearing in Federal Acquisition Circular (FAC) 2005-35 which amends the FAR.

Interested parties may obtain further information regarding these rules by referring to FAC 2005-35 which precedes this document. These documents are also available via the Internet at http://www.regulations.gov.

FOR FURTHER INFORMATION CONTACT: Hada Flowers, FAR Secretariat, (202) 208-7282. For clarification of content, contact the analyst whose name appears in the table below.

Rule Listed in FAC 2005-35
Subject | FAR case | Analyst
Revocation of Executive Order 13202 | 2009-015 | Woodson

SUPPLEMENTARY INFORMATION: A summary for the FAR rule follows. For the actual revisions and/or amendments to this FAR case, refer to FAR case 2009-015.

FAC 2005-35 amends the FAR as specified below:

Revocation of Executive Order 13202 (FAR Case 2009-015)

In accordance with Executive Order 13502—Use of Project Labor Agreements for Federal Construction Projects, this final rule amends FAR 36.202(d) to delete references to the revoked Executive Order 13202. The E.O. prohibited executive departments and agencies from requiring or prohibiting Federal Government contractors and subcontractors' entrance into project labor agreements. This rule requires no action on the part of contracting officers.

Dated: July 9, 2009.
Al Matera,
Director, Office of Acquisition Policy.

[FR Doc. E9-16618 Filed 7-10-09; 11:15 am]

BILLING CODE 6820-EP-P